DEPARTMENT OF HOMELAND SECURITY

Agency Information Collection Activities: Various Contract Related Forms That Will be Included in the Homeland Security Acquisition Regulation, DHS FORM 0700-01, DHS FORM 0700-02, DHS FORM 0700-03, DHS FORM 0700-04

AGENCY: Office of Chief Procurement Officer, Acquisition Policy and Legislation Office, DHS.

ACTION: 30-Day Notice and request for comments; Extension without Change, 1600-0002.

SUMMARY: The Department of Homeland Security, Office of Chief Procurement Officer, Acquisition Policy and Legislation Office, DHS will submit the following information collection request (ICR) to the Office of Management and Budget (OMB) for review and clearance in accordance with the Paperwork Reduction Act of 1995 (Pub. L. 104-13, 44 U.S.C. Chapter 35). DHS previously published this information collection request (ICR) in the Federal Register on November 15, 2010 at 75 FR 219, for a 60-day public comment period. No comments were received by DHS. DHS would also like to correct the Total Burden Cost (capital/startup): $236,253.60 that was indicated in the 60-Day Federal Register Notice. The cost that was indicated is the estimated annualized cost to the respondents for the hour burden for collecting the information, using the appropriate wage categories. The purpose of this notice is to allow additional 30-days for public comments and to correct the cost from $236,253.00 to zero.

DATES: Comments are encouraged and will be accepted until March 28, 2011. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to 202-395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Office of Chief Procurement Officer, Acquisition Policy and Legislation Office, DHS Attn.: Camara Francis, Department of Homeland Security, Office of the Chief Procurement Officer, Room 3114, Washington, DC 20528, Camara.Francis@hq.dhs.gov, 202-447-5904.

SUPPLEMENTARY INFORMATION: This information collection under the HSAR is necessary in order to implement applicable parts of the FAR (48 CFR). The four forms under this collection of information request are used by offerors, contractors, and the general public to comply with requirements in contracts awarded by the Department of Homeland Security (DHS). The four forms are DHS Form 0700-01, Cumulative Claim and Reconciliation Statement; DHS Form 0700-02, Contractor's Assignment of Refund, Rebates, Credits and Other Amounts; DHS Form 0700-03, Contractor's Release; and DHS Form 0700-04, Employee Claim for Wage Restitution. These four forms will be used by contractors and/or contract employees during contract administration. The information will be used by DHS contracting officers to ensure compliance with terms and conditions of DHS contracts and to complete reports required by other Federal agencies such as the General Services Administration and the Department of Labor. If this information is not collected, the DHS could inadvertently violate statutory or regulatory requirements and the DHS's interest concerning inventions and contractor's claims would not be protected. There has been an increase in the estimated annual burden hours previously reported for this collection. An adjustment in annual burden is necessary at this time in the amount of 1534 actions and hours. The initial annual burden was based on a lower number of contract actions which related to the fact that DHS was a new agency with consolidated acquisition procedures, processes, and policies. Although, there is an increase in the estimated burdened hours, there is no change in the information being collected.

Analysis

Agency: Office of Chief Procurement Officer, Acquisition Policy and Legislation Office, DHS.

Title: Various contract related forms that will be included in the Homeland Security Acquisition Regulation.

OMB Number: 1600-0002.

Frequency: On Occasion.

Affected Public: Private Sector.

Number of Respondents: 8,635.

Estimated Time per Respondent: 1 hour.

Total Burden Hours: 8,635.

Total Burden Cost (capital/startup): $0.00.

Total Burden Cost (operating/maintaining): $0.00.

Dated: February 14, 2011.
Richard Spires,
Chief Information Officer.

[FR Doc. 2011-4136 Filed 2-23-11; 8:45 am]

BILLING CODE 9110-9B-P